DEPARTMENT OF THE INTERIOR

National Park Service

[NPS-NRSS-GRD-NPS0027807; PPWONRADG0, PPMRSNR1Y.NG0000 (199); OMB Control Number 1024-0064]

Agency Information Collection Activities; Mining and Mining Claims and Non-Federal Oil and Gas Rights

AGENCY: National Park Service, Interior.

ACTION: Notice of information collection; request for comment.

SUMMARY: In accordance with the Paperwork Reduction Act of 1995, we, the National Park Service (NPS) are proposing to renew an information collection with revisions.

DATES: Interested persons are invited to submit comments on or before July 29, 2019.

ADDRESSES: Send written comments on this information collection request (ICR) to the Office of Management and Budget's (OMB) Desk Officer for the Department of the Interior by email at OIRA_Submission@omb.eop.gov; or by facsimile at 202-395-5806. Please provide a copy of your comments to Phadrea Ponds, Information Collection Clearance Officer, National Park Service, 1201 Oakridge Drive, Fort Collins, CO 80525; or by email at phadrea_ponds@nps.gov. Please reference OMB Control Number 1024-0064 in the subject line of your comments.

FOR FURTHER INFORMATION CONTACT: To request additional information about this ICR, contact Stephen Simon, Policy and Regulatory Specialist, Energy and Minerals Branch, Geologic Resources Division, National Park Service, P.O. Box 25287, Lakewood, Colorado 80225; or by email at Stephen_Simon@nps.gov. Please reference OMB Control Number 1024-0064 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On April 24, 2019, we published a Federal Register notice soliciting comments on this collection of information for 60 days, ending on June 23, 2019 (84 FR 17200-17201). We received one comment from the public in response to that notice. This comment did not necessitate any revisions to the information collection.

We are again soliciting comments on the proposed ICR described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Organic Act of 1916 (NPS Organic Act) (54 U.S.C. 100101) authorizes the Secretary of the Interior to develop regulations for units of the national park system (System units) under the Department's jurisdiction. The Mining in the Parks Act (54 U.S.C. 100731 et seq.) directs the Secretary of the Interior to regulate all operations in System units in connection with the exercise of mineral rights on patented and unpatented mining claims.

The regulations codified in 36 CFR part 9, subparts A and B, ensure that mining and non-Federal oil and gas activities in System units are conducted in a manner consistent with conserving each System unit for the benefit of present and future generations. The information required by Subpart A identifies the claim, claimant, and operator (the claimant and operator are often the same) and details how the operator intends to access and develop the minerals associated with the claim. It also identifies the steps the operator intends to take to minimize any adverse impacts of the mining operations on park resource and values. No information, except claim ownership information, is submitted unless the claimant wishes to conduct mining operations. The information required by Subpart B identifies the owner and operator (the owner and operator are often the same) and details how the operator intends to access and develop the oil and gas rights. It also identifies the steps the operator intends to take to minimize any adverse impacts on park resources and values. No information is submitted unless the owner wishes to conduct oil and gas operations. The information collected is used to evaluate proposed operations, ensure that all necessary mitigation measures are employed to protect park resources and values, and ensure compliance with all applicable laws and regulations.

With this submission, we are asking OMB to approve our request to consolidate the information collection requirements currently approved under OMB Control Number 1024-0274, “Non-Federal Oil and Gas Rights, 36 CFR Part 9, Subpart B” into collection 1024-0064. Prior to March 2016, 36 CFR part 9, subparts A and B were managed by a single NPS program office which used the same OMB Control Number (1024-0064). In November of 2016, the NPS promulgated an update to the 9B Regulations and as part of the rulemaking process, the information collection associated with the update was assigned a new control number (1024-0274). In the FRN (81 FR 77991), for the final rule, NPS stated that “We plan to transfer the corresponding burden for the Subpart B requirements [from 1024-0274] to OMB Control Number 1024-0064 after the final rule goes into effect and will then discontinue the new control number [1024-0274].” In this request, we are asking OMB to consolidate two information collections so that there will be only be one ICR with the regulation. We have identified the information collection requirements associated with 1024-0274 that will be consolidated into 1024-0064 (see burden table below). Upon approval, we will discontinue OMB Control Number 1024-0274.

Title of Collection: Mining and Mining Claims and Non-Federal Oil and Gas Rights, 36 CFR part 9, subparts A and B.

OMB Control Number: 1024-0064.

Form Number: None.

Type of Review: Revision of a currently approved collection.

Respondents/Affected Public: Businesses.

Respondent's Obligation: Required to obtain or retain a benefit.

Frequency of Collection: On occasion.

Total Estimated Annual Nonhour Burden Cost: $158,500.

Activity/requirement | Estimated number of annual responses | Completion time per response (hours) | Estimated total annual burden hours
ICs Currently Approved Under 1024-0064:
Mining and Mining Claims | 1 | 176 | 176
ICs Previously Approved Under 1024-0274 Proposed to be Consolidated into 1024-0064:
Previously Exempt Operations (§§ 9.50-9.53) | 106 | 10 | 1,060
Application for Temporary Access Permit (§§ 9.60-9.63) | 5 | 15 | 75
Extension of Temporary Access Permit | 1 | 1 | 1
Accessing Oil and Gas Rights From a Surface Location Outside the Park Boundary—Application for Exemption (§§ 9.70-9.73) | 3 | 80 | 240
Accessing Oil and Gas Rights From a Surface Location Outside the Park Boundary—Notice of change (§§ 9.70-9.73) | 1 | 2 | 2
Operations Permit (New Operations):
Application—(§§ 9.80-9.90) | 5 | 140 | 700
Operating Standards—Simulation Operations (§ 9.118(b)):
Demonstrate mechanical integrity | 5 | 4 | 20
Record treating pressures and all annular pressures | 5 | 4 | 20
Notify Superintendent if mechanical integrity is lost | 1 | 1 | 1
Report of accident | 2 | 1 | 2
Operating Standards—Production (§ 9.118(c)):
Document maintenance of mechanical integrity | 534 | 2 | 1,068
Signage to identify wells | 5 | 4 | 20
General Terms and Conditions (§§ 9.120-9.122):
Affidavit that proposed operations are in compliance with all laws and that information submitted to NPS is accurate | 111 | 1 | 111
Third-Party Monitor Report | 60 | 17 | 1,020
Notification—Accidents involving Serious Personal Injuries/Death and Fires/Spills | 2 | 1 | 2
Written Report—Accidents Involving Serious Injuries/Deaths and Fires/Spills | 2 | 16 | 32
Notification—Discovery of any cultural or scientific resources | 1 | 1 | 1
Report—Verify Compliance with Permits | 534 | 4 | 2,136
Reporting for Hydraulic Fracturing | 1 | 2 | 2
Financial Assurance (§§ 9.140-9.144) | 5 | 1 | 5
Modification to an Operation (§ 9.150) | 1 | 16 | 16
Change of Operator (§§ 9.160-9.161) | 5 | 8 | 40
Well Plugging (§§ 9.170-9.171) | 33 | 14 | 462
Reconsideration and Appeals (§§ 9.190-9.194) | 1 | 16 | 16
Public Participation (§ 9.200) | 1 | 4 | 4
Total | 1,431 |  | 7,232

An agency may not conduct or sponsor and a person is not required to respond to a collection of information unless it displays a currently valid OMB control number.

The authority for this action is the Paperwork Reduction Act of 1995 (44 U.S.C. 3501 et seq.).

Phadrea Ponds,
Acting NPS Information Collection Clearance Officer, National Park Service.

[FR Doc. 2019-13755 Filed 6-26-19; 8:45 am]

BILLING CODE 4312-52-P